DEPARTMENT OF VETERANS AFFAIRS

[OMB Control No. 2900-0546]

Agency Information Collection Activity Under OMB Review: Gravesite Reservation Questionnaire

AGENCY: National Cemetery Administration, Department of Veterans Affairs.

ACTION: Notice.

SUMMARY: In compliance with the Paperwork Reduction Act (PRA) of 1995, this notice announces that the National Cemetery Administration (NCA), Department of Veterans Affairs, will submit the collection of information abstracted below to the Office of Management and Budget (OMB) for review and comment. The PRA submission describes the nature of the information collection and its expected cost and burden; it includes the actual data collection instrument.

DATES: Comments must be submitted on or before July 27, 2020.

ADDRESSES: Submit written comments on the collection of information through Federal Docket Management System (FDMS) at www.Regulations.gov or to Cynthia Harvey-Pryor, National Cemetery Administration (42E), Department of Veterans Affairs, 810 Vermont Avenue NW, Washington, DC 20420, (202) 461-5870 or email cynthia.harvey-pryor@va.gov. Please refer to “OMB Control No. 2900-0546” in any correspondence. During the comment period, comments may be viewed online through FDMS.

FOR FURTHER INFORMATION CONTACT: Marty Fury, National Cemetery Administration, Marty.Fury@va.gov or telephone 202-461-6739.

SUPPLEMENTARY INFORMATION:

Authority: 44 U.S.C. 3501-3521.

Title: Gravesite Reservation Questionnaire.

OMB Control Number: 2900-0546.

Type of Review: Extension of a currently approved collection.

Abstract: The information is needed to determine if individuals holding gravesite set-asides wish to retain their set-aside or their wish to relinquish it. An agency may not conduct or sponsor, and a person is not required to respond to a collection of information unless it displays a currently valid OMB control number.

Affected Public: Individuals or Households.

Estimated Annual Burden: 4,166 hours.

Estimated Average Burden per Respondent: 10 minutes each.

Frequency of Response: One-time.

Estimated Number of Respondents: 25,000.

By direction of the Secretary.
Danny S. Green,
Department Clearance Officer, Office of Quality, Performance and Risk, Department of Veterans Affairs.

[FR Doc. 2020-11431 Filed 5-27-20; 8:45 am]

BILLING CODE 8320-01-P